DEPARTMENT OF AGRICULTURE

Animal and Plant Health Inspection Service

[Docket No. APHIS-2016-0038]

Notice of Determination of the Classical Swine Fever Status of Mexico

AGENCY: Animal and Plant Health Inspection Service, USDA.

ACTION: Notice.

SUMMARY: We are advising the public of our determination that Mexico is free of classical swine fever (CSF). Based on our evaluation of the animal health status of Mexico, which we made available to the public for review and comment through a previous notice, the Administrator has determined that CSF is not present in Mexico and that live swine, pork, and pork products may safely be imported into the United States from Mexico subject to conditions in the regulations.

DATES: This change in disease status will be recognized on January 16, 2018.

FOR FURTHER INFORMATION CONTACT: Dr. Chip Wells, Senior Staff Veterinarian, Regionalization Evaluation Services, National Import Export Services, VS, APHIS, USDA, 4700 River Road, Unit 38, Riverdale, MD 20737-1231; Chip.J.Wells@aphis.usda.gov; (301) 851-3317.

SUPPLEMENTARY INFORMATION: The Animal and Plant Health Inspection Service (APHIS) of the United States Department of Agriculture (USDA) regulates the importation of animals and animal products into the United States to guard against the introduction of animal diseases not currently present or prevalent in this country. The regulations in 9 CFR part 94 (referred to below as the regulations) prohibit or restrict the importation of specified animals and animal products to prevent the introduction into the United States of various animal diseases, including classical swine fever (CSF), foot-and-mouth disease, swine vesicular disease, and rinderpest. These are dangerous and communicable diseases of ruminants and swine.

The regulations in § 94.32 specify conditions for the importation of live swine, pork, and pork products from certain regions that APHIS currently recognizes as CSF-free but whose products may be at risk of commingling with products from CSF-affected regions due to common land borders or other factors. The conditions for such imports include, among others, a requirement for certification by a full-time salaried veterinary officer of the national government of the region of export that the pork or pork products originated in a CSF-free region, requirements that the pork or pork products be derived only from swine that were born and raised in such a region and never lived in a CSF-affected region, a prohibition against the comingling of the pork or pork products with pork or pork products that have been in an affected region, and a requirement that any processing of the pork or pork products be done in a federally inspected processing plant in a CSF-free region.

The regulations in 9 CFR part 92 contain requirements for requesting the recognition of the animal health status of a region or for the approval of the export of a particular type of animal or animal product to the United States from a foreign region. If, after review and evaluation of the information submitted in support of the request APHIS believes the request can be safely granted, APHIS will make its evaluation available for public comment through a notice published in the Federal Register. Following the close of the comment period, APHIS will review all comments received and will make a final determination regarding the request that will be detailed in another notice published in the Federal Register.

In response to a series of requests submitted by the Government of Mexico between 2007 and 2009, we conducted a qualitative risk evaluation to evaluate the CSF status of Mexican States other than the nine States already recognized at that time as CSF-free. The resulting risk evaluation document, “APHIS Evaluation of the CSF Status of a Region in Mexico” (referred to below as the “2013 risk evaluation”), did not support CSF-free recognition of all of Mexico; however, it did support access to the U.S. domestic market under certain risk-mitigating conditions. Based on the findings of the 2013 risk evaluation, on July 29, 2014, we published in the Federal Register (79 FR 43974-43980, Docket No. APHIS-2013-0061) a proposal ¹ to amend the regulations by recognizing a new APHIS-defined low-risk CSF region consisting of all Mexican States except the nine CSF-free States and the State of Chiapas, which we did not recognize as CSF-free.

¹ To view the 2013 risk evaluation, the proposed rule, and the comments we received, go to http://www.regulations.gov/#!docketDetail;D=APHIS-2013-0061.

In February 2015, Mexico received notice that the World Organization for Animal Health (OIE) recognized the country as CSF-free. Citing the OIE decision, the Government of Mexico then requested that APHIS suspend its rulemaking and instead continue evaluating Mexico for CSF-free status.

In response to this request, APHIS reopened its evaluation of the CSF status of Mexico. This reevaluation incorporated findings from a 2015 APHIS site visit report, along with updated surveillance data and other information submitted by Mexico. These findings are documented in an April 2016 addendum to the 2013 risk evaluation.

On August 8, 2017, we published in the Federal Register (82 FR 37043-37044, Docket No. APHIS-2016-0038) a notice ² in which we announced the availability for review and comment of the April 2016 addendum to the 2013 risk evaluation. In the addendum, we presented the results of our updated evaluation of the risk of introducing CSF into the United States via the importation of live swine, pork, and pork products from Mexico.

² To view the notice, the addendum, and the comment we received, go to http://www.regulations.gov/#!docketDetail;D=APHIS-2016-0038.

We solicited comments on the notice for 60 days ending on October 10, 2017. We received one comment by that date, from a domestic pork industry group.

The commenter supported our conclusion, as stated in the addendum, that the risk of introduction of CSF into the United States via the importation of live swine, pork, and pork products from Mexico is very low. Referencing a recommendation by our site visit team that certain improvements should be made to slaughterhouse surveillance in Mexico, however, the commenter urged APHIS to ensure that those improvements were implemented before authorizing pork imports from Mexico.

In the April 2016 risk evaluation addendum, we indicated that our recommended improvements notwithstanding, the design of Mexico's active surveillance system for CSF is adequate. We made no statement suggesting that recognition of Mexico as CSF-free or trade with Mexico would be contingent upon any action by the Mexican Government to improve slaughter surveillance.

Based on the addendum and the reasons given in this document in response to comments, we are recognizing Mexico as free of CSF and adding it to the list of regions found on the APHIS website at http://www.aphis.usda.gov/import_export/animals/animal_disease_status.shtml that are considered to be free of CSF but from which live swine, pork, and pork products may only be imported into the United States under certain conditions. Copies of the list are also available via postal mail, fax, or email from the person listed under FOR FURTHER INFORMATION CONTACT.

Authority: 7 U.S.C. 450, 7701-7772, 7781-7786, and 8301-8317; 21 U.S.C. 136 and 136a; 31 U.S.C. 9701; 7 CFR 2.22, 2.80, and 371.4.

Done in Washington, DC, on January 10, 2018.
Kevin Shea,
Administrator, Animal and Plant Health Inspection Service.

[FR Doc. 2018-00576 Filed 1-12-18; 8:45 am]

BILLING CODE 3410-34-P